DEPARTMENT OF TRANSPORTATION

Federal Motor Carrier Safety Administration

[FMCSA Docket No. FMCSA-2003-15818]

Exemption To Allow Werner Enterprises, Inc. To Use Global Positioning System (GPS) Technology To Monitor and Record Drivers' Hours of Service

AGENCY: Federal Motor Carrier Safety Administration (FMCSA), DOT.

ACTION: Notice.

SUMMARY: FMCSA announces that Werner Enterprises, Inc.'s (Werner's) exemption from the Agency's regulatory requirements regarding Automatic On-Board Recording Devices is no longer required for the Werner Paperless Log System (WPLS). Based on information provided by Werner, the Agency has determined that the exemption is no longer required due to recent technological changes in the WPLS.

DATES: This notice is effective January 9, 2009.

FOR FURTHER INFORMATION CONTACT: Mr. Thomas Yager, Chief, FMCSA Driver and Carrier Operations Division, Office of Bus and Truck Standards and Operations: Telephone: 202-366-4325. E-mail: MCPSD@dot.gov.

SUPPLEMENTARY INFORMATION:

Prior Werner Exemption

Following public notice and comment, on September 21, 2004, FMCSA granted Werner a 2-year exemption from the requirement that its commercial motor vehicle (CMV) drivers prepare handwritten records of duty status (49 CFR 395.8) or use an Automatic On-Board Recording Device (AOBRD) (49 CFR 395.15). A determination was made that the Global Positioning System (GPS) technology and complementary safety management computer systems in the Werner Paperless Log System (WPLS) would achieve the requisite level of safety. At that time, the primary reason for the exemption was that the Werner system was not integrally synchronized with the CMV as required by the definition of an AOBRD in 49 CFR 395.2. Certain information regarding miles driven and road speed was obtained from the GPS. The exemption was effective on September 21, 2004 and expired on September 21, 2006 (69 FR 56474).

In 2006, Werner applied for renewal of this exemption. Under 49 U.S.C. 31315 and 31136(e), FMCSA may renew an exemption for a period of up to 2 years if it finds “* * *such exemption would likely achieve a level of safety that is equivalent to, or greater than, the level that would be achieved absent such exemption.* * *” FMCSA evaluated Werner's application, and in a September 7, 2006 notice, announced its decision to renew Werner's exemption for 2 years (71 FR 52846).

Request for Determination

In July 2008, Werner requested that FMCSA review the modified WPLS to determine whether an exemption is still necessary. Werner advised that changes made in the WPLS have brought it into compliance with 49 CFR 395.15, and provided detailed information to FMCSA in support of its request.

A subsequent analysis of technical compliance with 49 CFR 395.15 was undertaken by FMCSA based on Werner's documentation. Regarding the primary issue of integral synchronization with the CMV to record engine use, road speed, miles driven, and date and time of day, Werner responded that except for date and time of day, all of this data is now obtained directly from the engine control module of the CMV. The date and time of day are obtained from the computer-satellite link. The GPS capability is only used to establish vehicle location, as permitted by 49 CFR 395.15.

FMCSA Determination

Based on the information provided by Werner, FMCSA has determined that the WPLS is in compliance with 49 CFR 395.15, and Werner no longer requires an exemption for use of the WPLS.

Issued on: December 29, 2008.
Larry W. Minor,
Associate Administrator for Policy and Program Development.

[FR Doc. E9-192 Filed 1-8-09; 8:45 am]

BILLING CODE 4910-EX-P